DEPARTMENT OF AGRICULTURE

Forest Service

Newspapers Used for Publications of Legal Notice, Comment and Appeal of Decisions for Pacific Northwest Region; Oregon and Washington; Correction

AGENCY: Forest Service, USDA.

ACTION: Notice; correction.

SUMMARY: The USDA Forest Service published a notice in the Federal Register of October 15, 2003, updating the listing of newspapers that will be used by all Ranger Districts, Forests, and the Regional Office of the Pacific Northwest Region to publish legal notices of decision subject to appeal under 36 CFR 215 and 217 and to publish notices for public comment subject to provisions of 36 CFR 215. The document contained an incorrect newspaper of record for Malheur National Forest.

FOR FURTHER INFORMATION CONTACT: Jill A. Dufour, Regional Environmental Coordinator, Pacific Northwest Region, 333 SW. First Avenue, (P.O. Box 3623), Portland, Oregon 97208, phone: 503-808-2276.

Correction

In the Federal Register of October 15, 2003, in FR Doc. 03-25977, on page 59362, in the second column, correct the Malheur National Forest to read:

Malheur National Forest

Forest Supervisor decisions

Blue Mountain District Ranger decisions

Prairie City District Ranger decisions

Blue Mountain Eagle, John Day, Oregon

Emigrant Creek District Ranger decisions

Burns Times Herald, Burns, Oregon

Dated: March 8, 2004.
Linda Goodman,
Regional Forester.

[FR Doc. 04-6278 Filed 3-19-04; 8:45 am]

BILLING CODE 3410-11-M